DEPARTMENT OF COMMERCE

Foreign-Trade Zones Board

[S-89-2023]

Foreign-Trade Zone 244; Subzone 244A Application for Expansion; Skechers USA, Inc.; Banning, California

An application has been submitted to the Foreign-Trade Zones (FTZ) Board by the March Joint Powers Authority, grantee of FTZ 244, requesting an expansion of Subzone 244A on behalf of Skechers USA, Inc., in Banning, California. The application was submitted pursuant to the provisions of the Foreign-Trade Zones Act, as amended (19 U.S.C. 81a-81u), and the regulations of the FTZ Board (15 CFR part 400). It was formally docketed on May 16, 2023.

Subzone 244A was approved by the FTZ Board on December 20, 2010 (Board Order 1734, 76 FR 87, January 3, 2011) and was converted to a subzone under the alternative site framework (ASF) on July 9, 2018 (S-99-2018). Subzone 244A currently consists of the following sites in Riverisde County: Site 1 (120.5 acres)—29800 Eucalyptus Avenue, Moreno Valley; Site 2 (16 acres)—22705 Newehope Drive, Moreno Valley; and Site 3 (29.09 acres)—3350 Redlands Avenue, Perris.

The applicant is now requesting to expand Subzone 244A to include an additional site: Site 4 (63.9 acres)—2600 East John Street, Banning, Riverside County. Because the site of the proposed expanded subzone is outside FTZ 244's ASF service area, authorization of the expanded subzone would not be under the ASF. The expanded subzone would be subject to the existing activation limit of FTZ 244. No authority for production activity has been requested at this time.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is July 3, 2023. Rebuttal comments in response to material submitted during the foregoing period may be submitted during the subsequent 15-day period to July 17, 2023.

A copy of the application will be available for public inspection in the “Online FTZ Information Section” section of the FTZ Board's website, which is accessible via www.trade.gov/ftz.

For further information, contact Qahira El-Amin at Qahira.El-Amin@trade.gov.

Dated: May 17, 2023.
Elizabeth Whiteman,
Executive Secretary.

[FR Doc. 2023-10853 Filed 5-19-23; 8:45 am]

BILLING CODE 3510-DS-P